DEPARTMENT OF JUSTICE

Notice of Lodging of Consent Decree Under the Comprehensive Environmental Response, Compensation, and Liability Act

Notice is hereby given that on June 25, 2007, a proposed Consent Decree in U.S. v. CHEMCENTRAL Corporation, et. al., Case No. 2:07-cv-12681 (DML), was lodged with the United States District Court in the Eastern District of Michigan. The Consent Decree is with: CHEMCENTRAL Corporation; Reclamation Company, Inc.; American Laboratories, Inc.; Estate of Morris I. Sheikh; Maha Sheikh; BorgWarner Inc. (formerly known as Borg-Warner Automotive, Inc.); General Motors Corporation; Ford Motor Company; Kelsey Hayes Company (dba TRW Automotive); and SPX Corporation (collectively, the “Defendants”). The Consent Decree resolves claims of the United States, on behalf of the United States Environmental Protection Agency (“EPA”), under the Comprehensive, Environmental Response, Compensation, and Liability Act (“CERCLA”), 42 U.S.C. 9601 et seq., in connection with the Reclamation Oil Company Superfund Site in Detroit, Michigan. Under the Consent Decree, the Defendants will pay $3,574,112.37 toward EPA's past costs.

For a period of thirty (30) days from the date of this publication, the Department of Justice will receive comments relating to the Consent Decree. Comments should be addressed to the Acting Assistant Attorney General, Environment and Natural Resources Division, and either e-mailed to pubcomment-ees.enrd@usdoj.gov or mailed to P.O. box 7611, U.S. Department of Justice, Washington, DC 20044. Comments should refer to U.S. v. CHEMCENTRAL Corporation, et al., Case No. 2:07-cv-12681 (DML), D.J. Ref. No. 90-11-2-08019.

The Consent Decree may be examined at the Office of the United States Attorney, Eastern District of Michigan, 211 Fort Street, Suite 2001, Detroit, MI 48225, and at the United States Environmental Protection Agency, Region 5, 77 W. Jackson Blvd., Chicago, IL 60604. During the public comment period, the Consent Decree may also be examined on the following Department of Justice Web site, http://www.usdoj.gov/enrd/Consent_Decrees.html. A copy of the Agreement may also be obtained by mail from the Consent Decree Library, P.O. Box 7611, U.S. Department of Justice, Washington, DC 20044, or by faxing or e-mailing a request to Tonia Fleetwood (tonia.fleetwood@usdoj.gov), fax number (202) 514-0097, phone confirmation number (202) 514-1547. In requesting a copy from the Consent Decree Library, please enclose a check in the amount of $6.00 (25 cents per page reproduction cost) payable to the United States Treasury.

William D. Brighton,
Assistant Chief, Environmental Enforcement Section, Environment and Natural Resources Division.

[FR Doc. 07-3492 Filed 7-18-07; 8:45 am]

BILLING CODE 4410-15-M